DEPARTMENT OF TRANSPORTATION

Federal Aviation Administration

RTCA Special Committee 195; Flight Information Services Communications (FISC)

Pursuant to section 10(a) (2) of the Federal Advisory Committee Act (Pub. L. 92-463, 5 U.S.C., Appendix 2), notice is hereby given for Special Committee (SC)-195 meeting to be held March 28, 29, and 30, 2000, starting at 8:30 a.m. each day. The meeting will be held at RTCA, Inc., 1140 Connecticut Avenue, NW, Suite 1020, Washington, DC., 20036.

The agenda will include: March 28: Plenary convenes for 30 minutes: (1) Welcome and Introductions; (2) Agenda Overview; (3) Working Group (WG) 1, Aircraft Cockpit Weather Display, Work on Comparison Between Aircraft and Ground Weather Radar Document and the design Guidelines & Recommended Standards for Airborne Processing & Display of FIS-B Section for Change 1 to the FIS-B Minimum Aviation System Performance Standards (MASPS); 1:00 p.m. Plenary Reconvenes: (4) Review of Previous Meeting Minutes; (5) Report from WG-1 on Activities; (6) Report on ICAO METLINK Study Group and Program Management Committee Meetings; (7) Report on Concept of Operations for Cockpit Display of Weathers and Airspace Information Documents Development. March 29: (8) Work on FIS-B MASPS Section 4.0, Procedures for Performance Requirement Verification, Development; (9) Work on FIS-B MASPS Appendix E, Application Payload Encoding. March 30: (10) Review Issues (Action Items) and Address Future Work; (11) Dates and Location of Future Meetings; (12) Other Business; (13) Closing.

Attendance is open to the interested public but limited to space availability. With the approval of the chairman, members of the public may present oral statements at the meeting. Persons wishing to present statements or obtain information should contact the RTCA Secretariat, 1140 Connecticut Avenue, NW., Suite 1020, Washington, DC, 20036; (202) 833-9339 (phone); (202) 833-9434 (fax); or http://www.rtca.org (web site). Members of the public may present a written statement to the committee at any time.

Issued in Washington, DC, on March 2, 2000.
Janice L. Peters,
Designated Official.

[FR Doc. 00-5956 Filed 3-9-00; 8:45 am]

BILLING CODE 4910-13-M